DEPARTMENT OF HEALTH AND HUMAN SERVICES

[Document Identifier: OS-4040-0012]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before August 19, 2019.

ADDRESSES: Submit your comments to OIRA_submission@omb.eop.gov or via facsimile to (202) 395-5806.

FOR FURTHER INFORMATION CONTACT: Ed Calimag, ed.calimag@hhs.gov or (202) 690-7569. When submitting comments or requesting information, please include the document identifier 4040-0012-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collections: SF-270 Request for Advance or Reimbursement.

Type of Collection: Reinstatement and extension without change of a previously approved collection.

OMB No. 4040-0012.

Abstract: SF-270 Request for Advance or Reimbursement form is an OMB-approved collection (4040-0012). This information collection is used by grant awardees to request funds from their grant award. The IC expired on January 31, 2019. We are seeking reinstatement of this information collection and a three-year clearance.

Estimated Annualized Burden Table
Forms | Number of respondents | Number of responses per respondent | Average burden hours per response | Total burden hours
SF-270 Request for Advance or Reimbursement | 100,000 | 1 | 1 | 100,000
Total | 100,000 |  |  | 100,000

Terry Clark,
Office of the Secretary, Paperwork Reduction Act Reports Clearance Officer.

[FR Doc. 2019-15394 Filed 7-18-19; 8:45 am]

BILLING CODE 4151-AE-P